DEPARTMENT OF JUSTICE

Drug Enforcement Administration

Manufacturer of Controlled Substances; Notice of Application

Pursuant to § 1301.33(a) of Title 21 of the Code of Federal Regulations (CFR), this is notice that on February 23, 2010, Siemens Healthcare Diagnostics Inc., Attn: RA, 100 GBC Drive, Mail Stop 514, Newark, Delaware 19702, made application by renewal to the Drug Enforcement Administration (DEA) to be registered as a bulk manufacturer of the basic classes of controlled substances listed in schedules I and II:

Drug | Schedule
Tetrahydrocannabinols (7370) | I
Ecgonine (9180) | II
Morphine (9300) | II

The company utilizes the listed controlled substances in bulk to manufacture in-vitro diagnostic test kits. The company distributes the test kits for sale to its customers. The process used in manufacturing the test kits irreversibly alters the controlled substances involved in such a manner that they are no longer classified as controlled substances as defined under the Controlled Substances Act.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than June 15, 2010.

Dated: March 29, 2010.
Joseph T. Rannazzisi,
Deputy Assistant Administrator, Office of Diversion Control, Drug Enforcement Administration.

[FR Doc. 2010-8797 Filed 4-15-10; 8:45 am]

BILLING CODE 4410-09-P